DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before December 20, 2011. Address written comments to Statutory Import Programs Staff, Room 3720, U.S. Department of Commerce, Washington, DC 20230. Applications may be examined between 8:30 a.m. and 5 p.m. at the U.S. Department of Commerce in Room 3720.

Docket Number: 11-067. Applicant: Oregon State University, 640 Kerr Administration Building, Corvallis, OR 97331. Instrument: Electron Microscope. Manufacturer: FEI Co., the Netherlands. Intended Use: The instrument will be used to introduce students to the topics, methods, applications and data interpretation associated with the use of electron microscopy. It will also be used to study tissue samples, newly synthesized materials samples, metals and alloys, as well as to characterize thin films of photosensitive materials that may have use in next-generation photovoltaic devices. Justification for Duty-Free Entry: There are no instruments of the same general category manufactured in the United States. Application accepted by Commissioner of Customs: October 31, 2011.

Docket Number: 11-068. Applicant: Regents of the University of California at Riverside, Campus Purchasing, 4301 Watkins Dr., Riverside, CA 92521-0411. Instrument: Electron Microscope. Manufacturer: FEI Co., the Netherlands. Intended Use: The instrument will be used for research on synthetic and natural materials, live tissue, organelles, minerals, insects, microorganisms and bacteria. Specific research topics will include solar hydrogen generation, storage and conversion, fundamental flow and fracture processes in materials of Earth's crust, and studies on the developmental biology of mucosal tissues. This research relies on the characterization of morphology and structure at microscopic down to nanometer scale of materials and biological tissues, which can be achieved successfully by utilizing the instrument with spatial resolution down to 1 nm. Justification for Duty-Free Entry: There are no instruments of the same general category manufactured in the United States. Application accepted by Commissioner of Customs: November 3, 2011.

Docket Number: 11-069. Applicant: U.S. Food and Drug Administration, WO62 RM 3204, 10903 New Hampshire Ave., Bldg WO 62, Room G248, Silver Spring, MD 20903. Instrument: Electron Microscope. Manufacturer: JEOL Ltd., Japan. Intended Use: The instrument will be used in the characterization of nanotechnology materials contained in pharmaceuticals, medical devices, biological products, foods and cosmetics. The research will determine the properties of these materials, their interaction with blood, tissue, and other biological products. Justification for Duty-Free Entry: There are no instruments of the same general category manufactured in the United States. Application accepted by Commissioner of Customs: November 7, 2011.

Dated: November 23, 2011.
Gregory Campbell,
Director, IA Subsidies Enforcement Office.

[FR Doc. 2011-30858 Filed 11-29-11; 8:45 am]

BILLING CODE 3510-DS-P